DEPARTMENT OF HEALTH AND HUMAN SERVICES

Administration for Children and Families

Submission for OMB Review; Administration for Children and Families Congressionally Directed Community Projects—Universal Project Description

AGENCY: Office of Planning, Research, and Evaluation, Administration for Children and Families, U.S. Department of Health and Human Services.

ACTION: Request for public comments.

SUMMARY: The Administration for Children and Families (ACF) is requesting approval of the ACF Congressionally Directed Community Projects—Universal Project Description (CDCP-UPD). This new information collection is proposed to collect information from recipients of ACF Congressionally Directed funds. Congressional Directive is an authorization act or appropriations act that requires ACF to make an award(s) to a named recipient(s) for a particular program, project, activity, or geographic area(s).

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing OPREinfocollection@acf.hhs.gov. Identify all requests by the title of the information collection.

SUPPLEMENTARY INFORMATION:

Description: CDCP recipients are identified annually by Congress through Appropriations for ACF. The CDCP-UPD will provide standard language and sections available for use by ACF program offices to solicit the required project description and project budget information from recipients of CDCP projects. Applications are required for CDCP as prescribed by HHS regulations 45 CFR 75.203. In addition to the information required by regulation, the CDCP-UPD will provide a selection of text options for the program offices to communicate the application requirements to the recipients, as required by 45 CFR 75.203.

The CDCP-UPD gathers information regarding the CDCP recipients' identified outcomes, project activities, timeline, organizational capacity, and budget and budget justification. The CDCP-UPD ensures sufficient information is obtained to assess risk, identify needs for technical assistance and monitoring, and address other requirements of Congress, ACF, the Department of Health and Human Services, the Office of Management and Budget, and funding and statutory regulation.

Respondents: The CDCP recipients are identified annually for funding under a Congressional Directive. In Fiscal Year 2022, there were 39 CDCP recipients identified for ACF funding. It is estimated that 200 CDCP recipients will be identified annually in future ACF appropriations.

Annual Burden Estimates

Note that since publication of a previous notice inviting public comment on this information collection (87 FR 74153), the agency has updated burden estimates to reflect updated information related to the number of recipients and number of responses over the approval period. The burden table has been updated accordingly. Estimated time per response has not changed.

Information instrument | Total number of respondents | Total number of responses per respondent | Average burden per response (in hours) | Average total burden (in hours) | Average annual burden (in hours)
Congressionally Directed Community Project—Uniform Project Description (CDCP-UPD) | 600 | 1.5 | 30 | 27,000 | 9,000

Authority: Social Security Act section 1110 [42 U.S.C. 1310]

John M. Sweet Jr,
ACF/OPRE Certifying Officer.

[FR Doc. 2023-02070 Filed 1-31-23; 8:45 am]

BILLING CODE 4184-78-P